COMMISSION ON CIVIL RIGHTS

Agenda and Notice of Public Meeting of the Florida Advisory Committee

Notice is hereby given, pursuant to the provisions of the rules and regulations of the U.S. Commission on Civil Rights (Commission) and the Federal Advisory Committee Act (FACA), that a planning meeting of the Florida Advisory Committee to the Commission will convene at 11 a.m. and adjourn at 2 p.m. on Thursday, February 21, 2008, at the Ying Academic Center, 36 W. Pine Street, University of Central Florida, Orlando, Florida. The purpose of the meeting is for the Committee to consider its report on the restoration of voting rights for ex-felons.

Members of the public are entitled to submit written comments; the comments must be received in the regional office by Friday, February 15, 2008. The address is Southern Regional Office, U.S. Commission on Civil Rights, 61 Forsyth St., SW., Suite 18T40, Atlanta, GA 30303. Persons wishing to email their comments or who desire additional information should contact Peter Minarik, Regional Director, Southern Regional Office, at (404) 562-7000 or by e-mail at pminarik@usccr.gov.

Hearing-impaired persons who will attend the meeting and require the services of a sign language interpreter should contact the Regional Office at least ten (10) working days before the scheduled date of the meeting.

Records generated from these meetings may be inspected and reproduced at the Southern Regional Office, as they become available, both before and after the meeting. Persons interested in the work of this advisory committee are advised to go to the Commission's Web site, http://www.usccr.gov, or to contact the Southern Regional Office at the above e-mail or street address.

The meeting will be conducted pursuant to the provisions of the rules and regulations of the Commission and FACA.

Dated at Washington, DC, January 24, 2008.
Christopher Byrnes,
Chief, Regional Programs Coordination Unit.

[FR Doc. E8-1512 Filed 1-28-08; 8:45 am]

BILLING CODE 6335-01-P